DEPARTMENT OF TRANSPORTATION

National Highway Traffic Safety Administration

[Docket No. NHTSA-2020-0018]

Agency Information Collection Activities; Submission to the Office of Management and Budget for Review and Approval; Reducing the Illegal Passing of School Buses

AGENCY: National Highway Traffic Safety Administration (NHTSA), Department of Transportation.

ACTION: Notice and request for comments on a new information collection.

SUMMARY: In compliance with the Paperwork Reduction Act of 1995 (PRA), this notice announces that the Information Collection Request (ICR) abstracted below is being submitted to the Office of Management and Budget (OMB) for review and approval. The ICR describes the nature of the information collection and its expected burden. This new information collection seeks to assess the knowledge of drivers nationwide about the laws governing passing a school bus. A Federal Register notice with a 60-day comment period soliciting public comments on the following information collection was published on July 17, 2020. By the close of the comment period, NHTSA received six comments.

DATES: Comments must be received on or before February 8, 2021.

ADDRESSES: Written comments and recommendations for the proposed information collection, including suggestions for reducing the burden, should be submitted to the Office of Management and Budget at www.reginfo.gov/public/do/PRAMain. To find this particular information collection, select “Currently under Review—Open for Public Comment” or use the search function.

FOR FURTHER INFORMATION CONTACT: For additional information or access to background documents, contact Kristin Rosenthal, Highway Safety Specialist, 1200 New Jersey Avenue SE, W44-245, Washington, DC 20590. Ms. Rosenthal's phone number is 202-366-8995, and her email address is kristin.rosenthal@dot.gov. Please identify the relevant collection of information by referring to its OMB Control Number.

SUPPLEMENTARY INFORMATION: Under the PRA (44 U.S.C. 3501 et seq.), a Federal agency must receive approval from the Office of Management and Budget (OMB) before it collects certain information from the public and a person is not required to respond to a collection of information by a Federal agency unless the collection displays a valid OMB control number. In compliance with these requirements, this notice announces that the following information collection request has been submitted to OMB. A Federal Register notice with a 60-day comment period soliciting public comments on the following information collection was published on July 17, 2020 (85 FR 43645). NHTSA received six comments by the close of the comment period. The National Transportation Safety Board (NTSB), the National School Transportation Association (NSTA), and David DeVeau provided comments supportive of the proposed information collection. Gardian Angel, LLC (which submitted the same comment twice) also provided comments regarding the proposed collection but expressed concerns about not including the recent NTSB recommendations adopted on March 31, 2020. Gardian Angel, LLC raised the concern that the data collection should address the NTSB recommendation, which includes evaluating various technologies as well as the inclusion of Gardian Angel, LLC products. To the comment regarding the inclusion of Gardian Angel, LLC products, NHTSA does not endorse specific products. This study is focused on assessing a high-visibility enforcement approach that includes the use of automated cameras on the school bus. NHTSA will take under consideration the suggestion to evaluate other technologies at another time. One anonymous post asked NHTSA to include pedestrian and bicyclist safety; however, this data collection is specific to school buses. We appreciate the comments from NTSB, NSTA, Gardian Angel, LLC, and the individual who provided comment and thank them for thoughtfully considering the described program.

Title: Reducing the Illegal Passing of School Buses.

OMB Control Number: New.

Form Number: 1559.

Type of Request: Request for approval of a new information collection.

Type of Review Requested: Regular.

Length of Approval Requested: Three years from date of approval.

Affected Public: Drivers in the AmeriSpeak panel run by National Opinion Research Center (NORC) at the University of Chicago and driver volunteers in two selected communities.

Summary of the Collection of Information: The National Highway Traffic Safety Administration (NHTSA) was established by the Highway Safety Act of 1970 to reduce deaths, injuries, and economic losses due to road traffic crashes on the Nation's highways. Even though every State has a law requiring drivers to stop for a stopped school bus displaying flashing red lights, illegal passing of stopped school buses is a frequent occurrence across the country. Title 23, Section 403 of the United States Code gives the Secretary authorization to use funds appropriated to conduct research and development activities, including demonstration projects and the collection and analysis of highway and motor vehicle safety data and related information needed to carry out that section. NHTSA seeks to assess the knowledge and attitudes of drivers nationwide about the laws governing passing a school bus (under the specific State laws where the driver lives) as a function of varying roadway configurations, flashing yellow and red light deployment on the school bus, and activation of the stop swing arm on the bus.

To make this assessment, NHTSA will conduct a study that consists of two new voluntary surveys of drivers in the general public. The first survey will collect data from current drivers of motor vehicles in the AmeriSpeak panel who volunteer to participate. AmeriSpeak is funded and operated by National Opinion Research Center (NORC) at the University of Chicago and is a probability-based panel designed to be representative of the U.S. household population to take part in online and telephone surveys. Screening and data collection for this national survey will take place in the respondents' homes or wherever respondents choose to operate their own computer, laptop, or mobile device. The second will evaluate the effectiveness of a high visibility enforcement (HVE) program, including the use of automated cameras on the school bus in two communities, aimed at reducing violations of the school bus passing laws. A survey in each community before and after the HVE application will be part of the evaluation. Screening and data collection for the community survey will take place on a computer or tablet provided by the study at a public venue frequented by drivers across the socioeconomic and demographic spectra, such as a mall or motor vehicle department office. All collection of data will be anonymous.

Description of the Need for the Information and Proposed Use of the Information: NHTSA's mission is to save lives, prevent injuries, and reduce economic costs due to road traffic crashes, through education, research, safety standards and enforcement activity. The agency develops, promotes, and implements educational, enforcement, engineering, and emergency response programs with the goal of ending preventable tragedies and reducing economic costs associated with vehicle use and highway travel. One highway safety problem NHTSA has been following closely involves school children struck by passing motorists while entering or exiting a stopped school bus with its red lights flashing and its stop arm extended. Even though there have been some highly-publicized child fatalities of this type and the annual national stop-arm violation count by the National Association of State Directors of Pupil Transportation Services (NASDPTS) continues to show a surprisingly high incidence of these illegal passes, to date, no national survey has assessed the levels of driver knowledge and understanding of the laws regarding passing of school buses. The findings from this proposed collection of information will assist NHTSA in designing, targeting, and implementing programs intended to mitigate illegal passing of school buses on the roadways and to provide data to States, localities, and law enforcement agencies that will aid in their efforts to reduce crashes and injuries due to illegal school bus passing.

Estimated Number of Respondents: The study anticipates collecting 3,000 responses to the national survey from members of the AmeriSpeak panel. It is estimated that up to 3,400 AmeriSpeak panelists will have to be screened to obtain 3,100 qualified volunteers who take the national survey (100 of these volunteers are estimated not to complete the entire survey). For the community surveys, NHTSA estimates that 400 volunteers will have to be screened for each wave (400 for the before-program implementation and 400 for the after-program implementation) for each of the two communities. Therefore, a total of 1,600 volunteers will have to be screened for the estimated yield of 300 completed surveys for each wave for the two communities, or 1,200 total responses in the two waves of community surveys at the two selected sites.

Frequency of Collection: Respondents will only respond to the national survey request a single time during the study period. The community survey will be conducted twice at the same locations in each of the two selected communities over a period of approximately 10 months. Therefore, an extremely small possibility exists that an individual might be invited to participate more than once for the community survey. If an individual is asked to participate a second time, they will be prompted to decline.

Estimated Time per Participant: Both the national and community surveys will be administered via an internet-hosted survey on a tablet or other small computer. The national and community surveys will have the same core items related to knowledge of and attitudes towards school bus passing laws. The community survey will have additional items about awareness of countermeasure program activities and basic respondent demographic information. Demographic information for the panelists in the national survey is part of their AmeriSpeak profile. The intent is for each participant to complete a survey only once. However, no identifying information will be collected for the community survey, so a slight possibility exists that an individual will participate more than once. The estimated average time to complete the survey per participant in either the national or community sample is 15 minutes. The screening involving (1) reading a recruitment communication, such as an email or listening to a researcher describe the study, and (2) determining an individual's eligibility (e.g., 18+ years old, current driver, lives in the community being studied) can take up to three minutes for the community surveys and two minutes for the national survey.

Total Estimated Annual Burden Hours: 1,268 hours for the total study.

NHTSA estimates that for the 3,400 AmeriSpeak panelists that will have to be screened, the estimated total burden is 113 hours (3,400 × 2 min./60). For the 3,100 qualified volunteers who take the national survey, the estimated total burden hours are 775 hours (3,100 × 15 min./60), yielding at least 3,000 fully completed surveys. Likewise, the total estimated burden for the maximum of 1,600 potential participants to be screened for the community survey (400 per wave × 2 communities x 2 waves) is 80 hours (1,600 × 3 min./60). The estimated total burden hours for the 1,200 fully completed surveys (300 per wave × 2 communities × 2 waves) is 300 hours (1,200 × 15 min./60). Table 1 provides a summary of the burden hours per survey.

Participant group | Form name | Number of responses per participant | Estimate burden per response (min.) | Number of participants | Total burden hours
National Survey | Screening | 1 | 2 | 3,400 | 113
National Survey | Online Survey | 1 | 15 | 3,100 | 775
Community Survey | Screening | 1 | 3 | 1,600 | 80
Community Survey | Online Survey | 1 | 15 | 1,200 | 300
Total |  |  |  |  | 1,268

Estimated Total Annual Burden Cost: The only cost to participants will be time spent responding to the screening and the subsequent survey if they volunteer. Participants who volunteer and begin the survey will receive compensation for this time.

Public Comments Invited: You are asked to comment on any aspect of this information collection, including (a) whether the proposed collection of information is necessary for the proper performance of the functions of the agency, including whether the information will have practical utility; (b) the accuracy of the agency's estimate of the burden of the proposed collection of information, including the validity of the methodology and assumptions used; (c) ways for the department to enhance the quality, utility, and clarity of the information to be collected; and (d) ways to minimize the burden of the collection of information on respondents, including the use of appropriate automated, electronic, mechanical, or other technological collection techniques or other forms of information technology, e.g., permitting electronic submission of responses without reducing the quality of the collected information.

Authority: The Paperwork Reduction Act of 1995; 44 U.S.C. Chapter 35, as amended; 49 CFR 1.49; and DOT Order 1351.29.

Issued in Washington, DC.
Nanda Narayanan Srinivasan,
Associate Administrator, Research and Program Development.

[FR Doc. 2021-00136 Filed 1-7-21; 8:45 am]

BILLING CODE 4910-59-P